DEPARTMENT OF VETERANS AFFAIRS

Privacy Act of 1974; System of Records

AGENCY: Department of Veterans Affairs (VA).

ACTION: Notice of a modified system of records.

SUMMARY: Pursuant to the Privacy Act of 1974, notice is hereby given that the Department of Veterans Affairs (VA) is modifying the system of records titled, “VA Child Care Subsidy Program Records-VA” (165VA05CCSP). This system contains the records used by the Child Care Records Management System (CCRMS) which provides a mechanism for online application processing; subsidy benefit requests; and the tracking, filing, retrieving, and storing of documents.

DATES: Comments on this modified system of records must be received no later than November 18, 2024. If no public comment is received during the period allowed for comment or unless otherwise published in the Federal Register by VA, the modified system of records will become effective a minimum of 30 days after the date of publication in the Federal Register. If VA receives public comments, VA shall review the comments to determine whether any changes to the notice are necessary.

ADDRESSES: Comments concerning the modified system of records may be submitted through www.Regulations.gov or mailed to VA Privacy Service, 810 Vermont Avenue NW, (005X6F), Washington, DC 20420. Comments should indicate they are submitted in response to “VA Child Care Subsidy Program Records—VA” (165VA05CCSP). Comments received will be available at www.Regulations.gov for public viewing, inspection, or copies.

FOR FURTHER INFORMATION CONTACT: Willie Swailes, Chief, Office of Human Resources and Administration/Operations, Security, and Preparedness, Child Care Subsidy Program, telephone (202) 578-7759 and email at willie.swailes@va.gov or Martha Ramirez, Director, Operations Management, telephone (202) 461-5805 or email at martha.ramirez@va.gov.

SUPPLEMENTARY INFORMATION: VA is modifying the system by revising the System Location; System Manager; Routine Uses of Records Maintained in the System; Policies and Practices for Storage of Records; Practices for Retention and Disposal of Records; and Administrative, Technical, and Physical Safeguards.

Routine Uses 2 and 3 are added in accordance with Office of Management and Budget memorandum M-17-12, which permits disclosure to respond to a suspected or confirmed data breach. Routine Use 7 is being added to permit disclosure to the Office of Personnel Management in connection with the application or effect of civil service laws, rules, regulations, or guidelines in particular situations. Additionally, the language of the existing routine uses has been modified for clarity.

VA is republishing the system notice in its entirety.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on September 11, 2024 for publication.

Dated: October 15, 2024.
Amy L. Rose,
Government Information Specialist, VA Privacy Service, Office of Compliance, Risk and Remediation, Office of Information and Technology, Department of Veterans Affairs.

SYSTEM NAME AND NUMBER:

“Child Care Subsidy Program—VA” (165VA05CCSP).

SECURITY CLASSIFICATION:

Unclassified.

SYSTEM LOCATION:

Applications to participate in the Department of Veterans Affairs (VA) Child Care Subsidy Program are submitted through the Child Care Records Management System (CCRMS) located at VA Web Operation, Capital Region Readiness Center (CRRC), 221 Butler Avenue, Martinsburg, West Virginia 25405-9700.

SYSTEM MANAGER(S):

Willie Swailes, Chief, Office of Human Resources and Administration/Operations, Security, and Preparedness, Child Care Subsidy Program, telephone (202) 578-7759 and email at willie.swailes@va.gov or Martha Ramirez, Director, Operations Management, telephone (202) 461-5805 or email at martha.ramirez@va.gov, 810 Vermont Avenue NW, Washington, DC 20420.

AUTHORITY FOR MAINTENANCE OF THE SYSTEM:

Public Law 106-58, Section 643; Executive Order 9397.

PURPOSE(S) OF THE SYSTEM:

To establish and verify VA employees' eligibility for childcare subsidies for VA to provide monetary assistance to its employees.

CATEGORIES OF INDIVIDUALS COVERED BY THE SYSTEM:

VA employees who voluntarily apply for childcare subsidy program.

CATEGORIES OF RECORDS IN THE SYSTEM:

Records in the system contain personally identifiable information, including employee (parent) name; social security number; pay grade; telephone numbers; total family income; names of children on whose behalf the parent is applying for the childcare subsidy; children's date of birth; information on childcare providers, including childcare provider's names, addresses, provider license numbers, and states where issued; provider tax identification numbers; and copies of IRS Form 1040 and 1040A for verification purposes.

RECORD SOURCE CATEGORIES:

Information is provided by VA employees who apply for childcare subsidy, furnishing the information is voluntary.

ROUTINE USES OF RECORDS MAINTAINED IN THE SYSTEM, INCLUDING CATEGORIES OF USERS AND PURPOSES OF SUCH USES:

1. Congress

To a Member of Congress or staff acting upon the Member's behalf when the Member or staff requests the information on behalf of, and at the request of, the individual who is the subject of the record.

2. Data Breach Response and Remediation for VA

To appropriate agencies, entities, and persons when (a) VA suspects or has confirmed that there has been a breach of the system of records; (b) VA has determined that as a result of a suspected or confirmed breach, there is a risk of harm to individuals, VA (including its information systems, programs, and operations), the Federal Government, or national security; and (c) the disclosure made to such agencies, entities, and persons is reasonably necessary to assist in connection with VA's efforts to respond to the suspected or confirmed breach or to prevent, minimize, or remedy such harm.

3. Data Breach Response and Remediation for Another Federal Agency

To another Federal agency or Federal entity when VA determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

4. Law Enforcement

To a Federal, state, local, territorial, tribal, or foreign law enforcement authority or other appropriate entity charged with the responsibility of investigating or prosecuting a violation or potential violation of law, whether civil, criminal, or regulatory in nature, or charged with enforcing or implementing such law, provided that the disclosure is limited to information that, either alone or in conjunction with other information, indicates such a violation or potential violation. A disclosure of information about veterans or their dependents from VA claims files under this routine use must also comply with the requirements of 38 U.S.C. 5701(f).

5. DoJ, Litigation, Administrative Proceeding

To the Department of Justice (DoJ), or in a proceeding before a court, adjudicative body, or other administrative body before which VA is authorized to appear, when:

(a) VA or any component thereof;

(b) A VA employee in his or her official capacity;

(c) A VA employee in his or her individual capacity where DoJ has agreed to represent the employee; or

(d) The United States, where VA determines that litigation is likely to affect the agency or any of its components

is a party to such proceedings or has an interest in such proceedings, and VA determines that use of such records is relevant and necessary to the proceedings.

6. Contractors

To contractors, grantees, experts, consultants, students, and others performing or working on a contract, service, grant, cooperative agreement, or other assignment for VA, when reasonably necessary to accomplish an agency function related to the records.

7. EEOC

To the Equal Employment Opportunity Commission (EEOC) in connection with investigations of alleged or possible discriminatory practices, examination of Federal affirmative employment programs, or other functions of the Commission as authorized by law.

8. FLRA

To the Federal Labor Relations Authority (FLRA) in connection with the investigation and resolution of allegations of unfair labor practices, the resolution of exceptions to arbitration awards when a question of material fact is raised, matters before the Federal Service Impasses Panel, and the investigation of representation petitions and the conduct or supervision of representation elections.

9. MSPB

To the Merit Systems Protection Board (MSPB) in connection with appeals, special studies of the civil service and other merit systems, review of rules and regulations, investigation of alleged or possible prohibited personnel practices, and such other functions promulgated in 5 U.S.C. 1205 and 1206, or as authorized by law.

10. NARA

To the National Archives and Records Administration (NARA) in records management inspections conducted under 44 U.S.C. 2904 and 2906 or other functions authorized by laws and policies governing NARA operations and VA records management responsibilities.

POLICIES AND PRACTICES FOR STORAGE OF RECORDS:

Records are maintained in/records are stored in the Child Care Records Management System (CCRMS) in an electronic format.

POLICIES AND PRACTICES FOR RETRIEVAL OF RECORDS:

Records are retrieved by use of individual names and may also be cross-referenced to social security numbers or other personal identifying numbers.

POLICIES AND PRACTICES FOR RETENTION AND DISPOSAL OF RECORDS:

Records in this system are retained and disposed of in accordance with the schedule approved by the Archivist of the United States, Records Control Schedule VHA RCS 3075.12.

ADMINISTRATIVE, TECHNICAL, AND PHYSICAL SAFEGUARDS:

When the system is not in use by an authorized person with a valid Personal Identification Verification (PIV/Smart Card), the system will not allow access. Electronic records are secured and require the employee's Personal Identification Verification (PIV/Smart Card) to access, and the system will self-lock within 5-7 minutes of no-activity within the system.

RECORD ACCESS PROCEDURES:

Individuals seeking information on the existence and content of records in this system pertaining to them should contact the system manager in writing as indicated above. A request for access to records must contain the requester's full name, address, telephone number, signed by the requester, and a description of the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURE:

Generalized notice is provided by the publication of this notice. For specific notice, see Record Access Procedure, above.

EXEMPTIONS PROMULGATED FOR THE SYSTEM:

None.

HISTORY:

77 FR 54660 (September 5, 2012).

[FR Doc. 2024-24119 Filed 10-17-24; 8:45 am]

BILLING CODE 8320-01-P